NUCLEAR REGULATORY COMMISSION

[Docket No. 52-033; NRC-2008-0566]

Detroit Edison Company; Notice of Availability of Draft Environmental Impact Statement for a Combined License for Unit 3 at the Enrico Fermi Atomic Power Plant Site

Notice is hereby given that the U.S. Nuclear Regulatory Commission (NRC) and the U.S. Army Corps of Engineers, Detroit District, have published NUREG-2105, “Draft Environmental Impact Statement for the Combined License (COL) for Enrico Fermi Unit 3.” The site is located in Monroe County, Michigan. The application for the COL was submitted by letter dated September 18, 2008, pursuant to Title 10 of the Code of Federal Regulations, part 52. A notice of receipt and availability of the application, which included the environmental report, was published in the Federal Register on October 10, 2008. A notice of acceptance for docketing of the COL application was published in the Federal Register on November 25, 2008. A notice of intent to prepare a draft environmental impact statement (EIS) and to conduct the scoping process was published in the Federal Register on December 10, 2008 (73 FR 75142).

Any interested party may submit comments on the draft EIS for consideration by the NRC staff. To be considered, comments on the draft EIS must be received by January 11, 2012. The NRC Staff is able to ensure consideration only for comments received on or before this date.

ADDRESSES: Please include Docket ID NRC-2008-0566 in the subject line of your comments. For additional instructions on submitting comments and instructions on accessing documents related to this action, see “Submitting Comments and Accessing Information” in the SUPPLEMENTARY INFORMATION section of this document. You may submit comments by any one of the following methods:

• Federal Rulemaking Web site: Go to http://www.regulations.gov and search for documents filed under Docket ID NRC-2008-0566. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The accession numbers for the draft EIS are available electronically under ADAMS Accession Numbers ML11287A108 and ML11287A109.

• Federal Rulemaking Web Site: Public comments and supporting materials related to this notice can be found at http://www.regulations.gov by searching on Docket ID NRC-2008-0566.

In addition, the draft EIS can be accessed online at the NRC's Fermi Unit 3 specific Web page at http://www.nrc.gov/reactors/new-reactors/col/fermi.html. The Ellis Reference & Information Center, Monroe County Libraries, located at 3700 South Custer Road, Monroe, Michigan 48161-9716, has also agreed to make the draft EIS available to the public.

The NRC staff will hold two public meetings to present an overview of the draft EIS and to accept public comments on the document on Thursday, December 15, 2011, at the Monroe County Community College, La-Z-Boy Center Meyer Theater, 1555 South Raisinville Road, Monroe, Michigan 48161. The first meeting will convene at 1 p.m. and will continue until 4 p.m., as necessary. The second meeting will convene at 7 p.m., with a repeat of the overview portions of the first meeting, and will continue until 10 p.m., as necessary. The meetings will be transcribed and will include: (1) A presentation of the contents of the draft EIS; and (2) the opportunity for interested government agencies, organizations, and individuals to provide comments on the draft report. To be considered, comments must be provided during the transcribed public meeting either orally or in writing. Additionally, the NRC and Corps staff will host informal discussions one hour before the start of each meeting during which members of the public may meet and talk with staff members on an informal basis. No formal comments on the draft EIS will be accepted during the informal discussions.

In the event that the La-Z-Boy Center Meyer Theater is closed due to weather conditions on December 15, 2011, the open houses and public meetings would be held on Monday, December 19, 2011, during the same hours as listed above.

Persons may pre-register to attend or present oral comments at the meetings by contacting Mr. Bruce Olson by telephone at 1-(800) 368-5642, extension 3731, or via email to Fermi3.COLEIS@nrc.gov no later than December 8, 2011. Members of the public may also register to speak at the meetings within 15 minutes of the start of each meeting. Individual oral comments may be limited by the time available, depending on the number of persons who register. Members of the public who have not registered may also have an opportunity to speak if time permits. If special equipment or accommodations are needed to attend or present information at the public meetings, the need should be brought to Mr. Bruce Olson's attention no later than December 8, 2011, to provide the NRC staff adequate notice to determine whether the request can be accommodated.

FOR FURTHER INFORMATION CONTACT: Mr. Bruce Olson, Project Manager, Environmental Projects Branch 2, Division of Site and Environmental Reviews, Office of New Reactors, U.S. Nuclear Regulatory Commission, Washington, DC 20555-0001. Telephone: (301) 415-1677; email: Bruce.Olson@nrc.gov.

Dated at Rockville, Maryland, this 20th day of October, 2011.
For the Nuclear Regulatory Commission.
Scott Flanders,
Director, Division of Site and Environmental Reviews, Office of New Reactors.

[FR Doc. 2011-27919 Filed 10-27-11; 8:45 am]

BILLING CODE 7590-01-P